DEPARTMENT OF THE TREASURY

Submission for OMB Review; Comment Request

September 11, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 19, 2000 to be assured of consideration.

Internal Revenue Service (IRS)

OMB Number: 1545-0115.

Form Number: IRS Form 1099-MISC.

Type of Review: Extension.

Title: Miscellaneous Income.

Description: Form 1099-MISC is used by payers to report payments of $600 or more of rents, prizes and awards, medical and health care payments, nonemployee compensation, and crop insurance proceeds, $10 or more of royalties, any amount of fishing boat proceeds, certain substitute payments, golden parachute payments, and an indication of direct sale of $5,000 or more.

Respondents: Business or other for-profit, Individuals or households, Not-for-profit institutions, Farms, Federal Government, State, Local or Tribal Government.

Estimated Number of Respondents: 4,302,217.

Estimated Burden Hours Per Respondent: 16 minutes.

Frequency of Response: Annually.

Estimated Total Reporting Burden: 21,649,027 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-23967 Filed 9-18-00; 8:45 am]

BILLING CODE 4830-01-P